DEPARTMENT OF COMMERCE

Submission for OMB Review; Comment Request

The Department of Commerce will submit to the Office of Management and Budget (OMB) for clearance the following proposal for collection of information under the provisions of the Paperwork Reduction Act (44 U.S.C. chapter 35).

Agency: International Trade Administration (ITA).

Title: Application for the President's “E” and “E” Star Awards for Export Expansion.

Form Number(s): ITA-725P.

OMB Control Number: 0625-0065.

Type of Request: Regular submission (revision and extension of a currently approved information collection).

Burden Hours: 600.

Number of Respondents: 30.

Average Hours per Response: 20.

Needs and Uses: Expanding the U.S. exports is a national priority and essential to improving U.S. trade performance. The Department of Commerce, International Trade Administration, U.S. Commercial Service serves as the key U.S. government agency responsible for promoting exports of goods and services from the United States and assisting U.S. exporters in their dealings with foreign governments.

The “E” Award Program was established by Executive Order 10978 (EO), to afford suitable recognition to persons, firms, or organizations that contribute significantly in the effort to increase U.S. exports and to encourage U.S. companies to sell their products and services internationally. The EO authorized the Secretary of Commerce, in cooperation with the Secretary of the Interior, the Secretary of Agriculture, the Administrator of the Small Business Administration, and the heads of other Government departments and agencies, to establish procedures for the nomination and the granting of awards. A second Presidential award, the “E Star” Award, was authorized by the Secretary of Commerce, to afford continuing recognition of noteworthy export promotion efforts.

The application form is used to determine eligibility for the “E” Award and the “E Star” Award within established criteria. In addition to the application form and written justification, applicants can submit supporting materials that show their qualification for the respective awards, although supporting materials are not required. Examples of supporting materials can include: Translated company and product literature; promotional materials; client impact statements; or anything the company or organization deems relevant to its qualification for the respective award.

The “E” and “E Star” Awards are the highest honors that our nation bestows upon American exporters and organizations that contribute to exporting. These awards recognize firms and organizations for their competitive achievements in world markets, as well as the benefits of their success to the U.S. economy. The purpose of this information collection is to determine the applicant's eligibility to receive a Presidential award.

Respondents benefit from the collection of this information because it affords them with recognition of their exporting success from the U.S. government; and can use this recognition to further market themselves and thereby increase business and reputation.

Affected Public: Business or other for-profit organizations.

Frequency: Annually.

Respondent's Obligation: Voluntary.

OMB Desk Officer: Wendy Liberante, (202) 395-3647.

Copies of the above information collection proposal can be obtained by calling or writing Diana Hynek, Departmental Paperwork Clearance Officer, (202) 482-0266, Department of Commerce, Room 6616, 14th and Constitution Avenue, NW., Washington, DC 20230 (or via the Internet at dHynek@doc.gov.

Written comments and recommendations for the proposed information collection should be sent within 30 days of publication of this notice to Wendy Liberante, OMB Desk Officer, Fax number (202) 395-5167 or via the Internet at Wendy_L._Liberante@omb.eop.gov.

Dated: August 16, 2011.
Gwellnar Banks,
Management Analyst, Office of the Chief Information Officer.

[FR Doc. 2011-21310 Filed 8-19-11; 8:45 am]

BILLING CODE 3510-FP-P